DEPARTMENT OF LABOR

Agency Information Collection Activities; Submission for OMB Review; Comment Request, Evaluation of the American Apprenticeship Initiative, New Collection; Correction

AGENCY: Office of the Assistant Secretary for Policy, Chief Evaluation Office, Department of Labor.

ACTION: Notice; correction.

SUMMARY: The Department of Labor (DOL) published a document in the Federal Register of November 1, 2018, concerning request for comments on the collection of data about the Evaluation of Strategies Used in America's Promise Job Driven Grant Program Evaluation. The document contained incorrect title.

FOR FURTHER INFORMATION CONTACT: Megan Lizik by email at ChiefEvaluationOffice@dol.gov, or call 202-430-1255.

SUPPLEMENTARY INFORMATION:

Correction

In the Federal Register of November 1, 2018, in FR Doc. 83 FR 54943, on page 54943, in the third column, correct the Title caption to read: “Agency Information Collection Activities; Submission for OMB Review; Comment Request, America's Promise Job Driven Grant Program Evaluation, New Collection.”

Dated: November 1, 2018.
Molly Irwin,
Chief Evaluation Officer, U.S. Department of Labor.

[FR Doc. 2018-24270 Filed 11-5-18; 8:45 am]

BILLING CODE 4510-HX-P